DEPARTMENT OF HOMELAND SECURITY

Federal Emergency Management Agency

[Docket ID FEMA-2022-0002; Internal Agency Docket No. FEMA-B-2213]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Buckeye (21-09-0404P) | The Honorable Eric Orsborn, Mayor, City of Buckeye, 530 East Monroe Avenue, Buckeye, AZ 85326 | Engineering Department, 530 East Monroe Avenue, Buckeye, AZ 85326 | https://msc.fema.gov/portal/advanceSearch | Apr. 22, 2022 | 040039
Maricopa | City of Peoria (21-09-1030P) | The Honorable Cathy Carlat, Mayor, City of Peoria, 8401 West Monroe Street, Peoria, AZ 85345 | City Hall, 8401 West Monroe Street, Peoria, AZ 85345 | https://msc.fema.gov/portal/advanceSearch | Apr. 29, 2022 | 040050
California:
Contra Costa | City of Oakley,(20-09-2109P) | The Honorable Sue Higgins, Mayor, City of Oakley, 3231 Main Street, Oakley, CA 94561 | Public Works and Engineering Department, 3231 Main Street, Oakley, CA 94561 | https://msc.fema.gov/portal/advanceSearch | Feb. 7, 2022 | 060766
Placer | Unincorporated Areas of Placer County (21-09-1293P) | The Honorable Robert Weygandt, Chairman, Board of Supervisors, Placer County, 175 Fulweiler Avenue, Auburn, CA 95603 | Placer County Public Works, 3091 County Center Drive, Suite 220, Auburn, CA 95603 | https://msc.fema.gov/portal/advanceSearch | May 16, 2022 | 060239
San Bernardino | City of Rancho Cucamonga (21-09-0942P) | The Honorable L. Dennis Michael, Mayor, City of Rancho Cucamonga, 10500 Civic Center Drive, Rancho Cucamonga, CA 91730 | City Hall, Engineering Department Plaza Level, 10500 Civic Center Drive, Rancho Cucamonga, CA 91730 | https://msc.fema.gov/portal/advanceSearch | Apr. 28, 2022 | 060671
Ventura | City of Simi Valley (21-09-1199P) | The Honorable Keith L. Mashburn, Mayor, City of Simi Valley, 2929 Tapo Canyon Road, Simi Valley, CA 93063 | City Hall, 2929 Tapo Canyon Road, Simi Valley, CA 93063 | https://msc.fema.gov/portal/advanceSearch | Apr. 15, 2022 | 060421
Florida: Duval | City of Jacksonville (21-04-0596P) | The Honorable Lenny Curry, Mayor, City of Jacksonville, 117 West Duval Street, Suite 400, Jacksonville, FL 32202 | City Hall, 117 West Duval Street, Jacksonville, FL 32202 | https://msc.fema.gov/portal/advanceSearch | April 7, 2022 | 120077
Illinois
McHenry | Village of Algonquin (21-05-4386P) | The Honorable Debby Sosine, Village President, Village of Algonquin, 2200 Harnish Drive, Algonquin, IL 60102 | Village Hall, 2200 Harnish Drive, Algonquin, IL 60102 | https://msc.fema.gov/portal/advanceSearch | May 23, 2022 | 170474
Will | City of Lockport (19-05-4019P) | The Honorable Steven Streit, Mayor, City of Lockport, 222 East 9th Street, Lockport, IL 60441 | Public Works and Engineering Department, 17112 South Prime Boulevard, Lockport, IL 60441 | https://msc.fema.gov/portal/advanceSearch | May 23, 2022 | 170703
Will | Unincorporated Areas of Will County (19-05-4019P) | The Honorable Jennifer Bertino-Tarrant, Will County Executive, Will County Office Building, 302 North Chicago Street, Joliet, IL 60432 | Will County Land Use Department, 58 East Clinton Street, Suite 100, Joliet, IL 60432 | https://msc.fema.gov/portal/advanceSearch | May 23, 2022 | 170695
Michigan:
Wayne | Charter Township of Plymouth (21-05-1510P) | Mr. Kurt Heise, Township Supervisor, Charter Township of Plymouth, 9955 North Haggerty Road, Plymouth, MI 48170 | Township Hall, 9955 North Haggerty Road, Plymouth, MI 48170 | https://msc.fema.gov/portal/advanceSearch | May 6, 2022 | 260237
Wayne | Township of Canton (21-05-2918P) | Mrs. Anne Marie Graham-Hudak, Supervisor, Canton Township, 1150 South Canton Center Road, Canton, MI 48188 | Canton Municipal Complex, 1150 South Canton Center Road, Canton, MI 48188 | https://msc.fema.gov/portal/advanceSearch | May 6, 2022 | 260219
Minnesota: Marshall | City of Argyle (21-05-4569P) | The Honorable Robert Clausen, Mayor, City of Argyle, P.O. Box 288, Argyle, MN 56713 | City Hall, 701 Pacific Avenue, Argyle, MN 56713 | https://msc.fema.gov/portal/advanceSearch | April 22, 2022 | 270268
Nebraska: Dawson | City of Gothenburg (21-07-0869P) | The Honorable Joyce Hudson, Mayor, City of Gothenburg, 409 9th Street, Gothenburg, NE 69138 | Town Hall, 409 9th Street, Gothenburg, NE 69138 | https://msc.fema.gov/portal/advanceSearch | Apr. 29, 2022 | 310062
New York: Rockland | Town of Ramapo (20-02-1315P) | The Honorable Michael B. Specht, Town Supervisor, Town of Ramapo, 237 Route 59, Suffern, NY 10901 | Ramapo Office of the Building Inspector, 237 Route 59, Suffern, NY 10901 | https://msc.fema.gov/portal/advanceSearch | Jun. 1, 2022 | 365340
Texas: Aransas | Unincorporated Areas of Aransas County (21-06-1547P) | The Honorable C. H. “Burt” Mills, Jr., County Judge, Commissioners Court, Aransas County Courthouse, 2840 Highway 35N, Rockport, TX 78382 | Aransas County Road and Bridge Office, 1931 FM 2165, Rockport, TX 78382 | https://msc.fema.gov/portal/advanceSearch | May 16, 2022 | 485452
Washington: King | City of Issaquah (21-10-0355P) | The Honorable Mary Lou Pauly, Mayor, City of Issaquah, 130 E Sunset Way, Issaquah, WA 98027 | City Hall, 1775 12th Avenue Northwest, Issaquah, WA 98027 | https://msc.fema.gov/portal/advanceSearch | Apr. 26, 2022 | 530079
Wisconsin: Waukesha | Village of Menomonee Falls (21-05-3044P) | Mr. Dave Glasgow, Village President, Village of Menomonee Falls, W156 N8480 Pilgrim Road, Menomonee Falls, WI 53051 | Village Hall, W156 N8480 Pilgrim Road, Menomonee Falls, WI 53051 | https://msc.fema.gov/portal/advanceSearch | Apr. 29, 2022 | 550483

[FR Doc. 2022-03121 Filed 2-11-22; 8:45 am]

BILLING CODE 9110-12-P